ELECTION ASSISTANCE COMMISSION

Sunshine Act Notice

AGENCY: U.S. Election Assistance Commission.

ACTION: Notice of Virtual Public Meeting for EAC Standards Board.

DATE AND TIME: Tuesday, July 27, 2010, 1-7 p.m. edt

PLACE: The EAC Standards Board Virtual Public Meeting will be webcast live from the U.S. Election Assistance Commission; 1225 New York Ave, NW., Suite 150; Washington, DC 20005. Members of the Executive Board of the Standards Board will meet in person at EAC. Board members and EAC staff who are present at EAC will facilitate communication among the full Standards Board membership via teleconference and the use of WebEx technology. To view the webcast, viewers should visit EAC's home page at http://www.eac.gov and click the link to the Standards Board Virtual Public Meeting.

AGENDA: The U.S. Election Assistance Commission (EAC) Standards Board will conduct a virtual public meeting to receive updates on EAC programs and activities. The meeting will include presentations from the following EAC program divisions: Payments and Grants; Research, Programs, & Policy; and Voting System Testing & Certification. Presentation topics will include: Prior grant programs; 2010 Election Administration & Voting Survey; Election Management Guidelines; Commercial Off-the-Shelf considerations; Election Operations Assessment; and Uniformed and Overseas Citizens Absentee Voting Act (UOCAVA) projects. The Standards Board will receive updates on other EAC activities; formulate recommendations to the EAC; hear Standards Board committee reports; consider bylaw amendments and resolutions; and consider other administrative matters.

Members of the public may observe but not participate in EAC meetings unless this notice provides otherwise. Members of the public may use small electronic audio recording devices to record the proceedings. The use of other recording equipment and cameras requires advance notice to and coordination with the Commission's Communications Office.

This meeting will be open to the public.

PERSON TO CONTACT FOR INFORMATION: Bryan Whitener, Telephone: (202) 566-3100.

Gineen Bresso,
Commissioner, U.S. Election Assistance Commission.

[FR Doc. 2010-16845 Filed 7-6-10; 4:15 pm]

BILLING CODE 6820-KF-P